DEPARTMENT OF ENERGY

Federal Energy Regulatory Commission

Combined Notice of Filings #1

Take notice that the Commission received the following electric rate filings:

Docket Numbers: ER10-2290-004.

Applicants: Avista Corporation.

Description: Notice of Non-Material Change of Status of Avista Corporation.

Filed Date: 5/8/15.

Accession Number: 20150508-5039.

Comments Due: 5 p.m. ET 5/29/15.

Docket Numbers: ER15-885-000.

Applicants: Northern States Power Company, a Minnesota corporation.

Description: eTariff filing per 35.19a(b): 2015-5-8_NSP-AIM-Refund Report to be effective N/A.

Filed Date: 5/8/15.

Accession Number: 20150508-5132.

Comments Due: 5 p.m. ET 5/29/15.

Docket Numbers: ER15-964-002.

Applicants: Southwest Power Pool, Inc.

Description: Tariff Amendment per 35.17(b): City Utilities of Springfield Formula Rate Amended Filing to be effective 4/1/2015.

Filed Date: 5/7/15.

Accession Number: 20150507-5202.

Comments Due: 5 p.m. ET 5/28/15.

Docket Numbers: ER15-1684-000.

Applicants: Southern California Edison Company.

Description: § 205(d) rate filing per 35.13(a)(2)(iii): Generator Interconnection Agreement to be effective 5/8/2015.

Filed Date: 5/7/15.

Accession Number: 20150507-5192.

Comments Due: 5 p.m. ET 5/28/15.

Docket Numbers: ER15-1685-000.

Applicants: Town Square Energy East, LLC.

Description: § 205(d) rate filing per 35.13(a)(2)(iii): Amendment to Notice of Succession to be effective 4/2/2015.

Filed Date: 5/8/15.

Accession Number: 20150508-5000.

Comments Due: 5 p.m. ET 5/29/15.

Docket Numbers: ER15-1686-000.

Applicants: Rayburn Country Electric Cooperative Inc.

Description: Notice of Cancellation of Transmission and Interconnection Agreement of Rayburn Country Electric Cooperative, Inc.

Filed Date: 5/7/15.

Accession Number: 20150507-5254.

Comments Due: 5 p.m. ET 5/28/15.

Docket Numbers: ER15-1687-000.

Applicants: Blue Cube Operations LLC.

Description: Initial rate filing per 35.12 Blue Cube Operations LLC Baseline Tariff Filing to be effective 5/9/2015.

Filed Date: 5/8/15.

Accession Number: 20150508-5090.

Comments Due: 5 p.m. ET 5/29/15.

Docket Numbers: ER15-1688-000.

Applicants: Alabama Power Company.

Description: § 205(d) rate filing per 35.13(a)(2)(iii): GCL Lincoln Power SGIA Filing to be effective 4/24/2015.

Filed Date: 5/8/15.

Accession Number: 20150508-5103.

Comments Due: 5 p.m. ET 5/29/15.

Docket Numbers: ER15-1689-000.

Applicants: Midcontinent Independent System Operator, Inc., Dairyland Power Cooperative.

Description: § 205(d) rate filing per 35.13(a)(2)(iii): 2015-05-08_DPC Incentive Rate Filing to be effective 7/1/2015.

Filed Date: 5/8/15.

Accession Number: 20150508-5114.

Comments Due: 5 p.m. ET 5/29/15.

Docket Numbers: ER15-1690-000.

Applicants: Wisconsin Public Service Corporation.

Description: § 205(d) rate filing per 35.13(a)(2)(iii): WPSC's Updated FERC Form 1 References in its Formula Rates to be effective 7/7/2015.

Filed Date: 5/8/15.

Accession Number: 20150508-5156.

Comments Due: 5 p.m. ET 5/29/15.

Take notice that the Commission received the following qualifying facility filings:

Docket Numbers: QF15-381-000.

Applicants: KTZ Hydro LLC.

Description: Refund Report of KTZ Hydro LLC.

Filed Date: 5/8/15.

Accession Number: 20150508-5043.

Comments Due: 5 p.m. ET 5/8/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 8, 2015.
Nathaniel J. Davis, Sr.,
Deputy Secretary.

[FR Doc. 2015-11734 Filed 5-14-15; 8:45 am]

BILLING CODE 6717-01-P